DEPARTMENT OF AGRICULTURE

Forest Service

Tongass National Forest, Thorne Bay Ranger District; Alaska; Twin Mountain II Timber Sale

AGENCY: Forest Service, Agriculture (USDA).

ACTION: Notice of intent to prepare an environmental impact statement.

SUMMARY: The Forest Service will prepare an Environmental Impact Statement (EIS) for the Twin Mountain II Timber Sale, which proposes to offer timber for harvest in the Staney and Red Bay areas within the Thorne Bay Ranger District, Tongass National Forest. The Proposed Action would offer for harvest about 42 million board feet of timber from approximately 3,000 acres. In addition, transportation management activities such as road construction, reconstruction, maintenance and decommissioning are proposed.

DATES: Comments concerning the scope of the analysis must be received by [October 14, 2020. The draft EIS is expected December 2020 and the final EIS is expected May 2021.

ADDRESSES: Send written comments to the Thorne Bay Ranger District, Attn: Twin Mountain II Timber Sale, P.O. Box 19001, Thorne Bay, Alaska, 99919. Comments may also be sent electronically to https://cara.ecosystem management.org/Public/CommentInput?Project=58626, or via facsimile to 907-828-3309. In all correspondence, include your name, address, and organization name if you are commenting as a representative of an organization.

FOR FURTHER INFORMATION CONTACT: Lucy Maldonado, Planning Staff, Thorne Bay Ranger District, P.O. Box 19001, Thorne Bay, Alaska 99919 or by phone at 907-828-3250.

Individuals who use telecommunication devices for the deaf (TDD) may call the Federal Information Relay Service (FIRS) at 1-800-877-8339 between 8 a.m. and 8 p.m., Eastern Time, Monday through Friday.

SUPPLEMENTARY INFORMATION: This EIS will tier to and incorporate by reference the 2016 Tongass Land and Resource Management Plan (Forest Plan) Amendment Final EIS. The project area is located on Prince of Wales Island, approximately 75 to 100 miles west of Ketchikan, Alaska, within the Staney and Red Bay areas of the Thorne Bay Ranger District, Tongass National.

Purpose and Need for Action

The purpose of the Twin Mountain II Timber Sale is to implement the 2016 Forest Plan direction to move the project area toward the desired future conditions described in the plan. More specifically, the purpose is to manage the timber resource for production of sawtimber and other wood products and to meet multiple resource objectives. There is a need to provide a sustainable level of forest products to contribute to the economic sustainability of the region. Providing old-growth timber would preserve a viable timber industry by providing timber volume in an economically efficient manner while providing jobs and opportunities for Southeast Alaska residents.

Proposed Action

The Forest Service proposes to make approximately 42 million board feet (MMBF) of old growth timber available to offer for harvest and construct and reconstruct roads in the Staney and Red Bay areas within the Thorne Bay Ranger District. Timber would be made available to offer for harvest up to 3,000 acres of old-growth forest in the Modified Landscape and Timber Production land use designation areas, using one or more timber sales that would be implemented over the course of 5 to 10 years. The proposed action includes about 1,800 acres of even-aged management and about 1,200 acres of uneven-aged management, with estimated volume for even-aged management being 32.4 MMBF and 9.6 MMBF for uneven-aged management. The proposed action includes approximately 3 miles of new National Forest System road construction, 11 miles of new temporary road construction, and the reconditioning of approximately 35 miles of existing roads. Existing rock quarries would be used as available or new quarries would be developed as necessary to provide materials for road construction. Existing log transfer facilities at El Capitan, Exchange Cove, Lab Bay, Naukati, and Winter Harbor could be used. Under the proposed action, no young growth timber is proposed to be made available for harvest and no activities would occur within designated roadless areas. No special timber cutting prescriptions around communities are included in the proposed action.

Responsible Official

The Responsible Official for this project is the Tongass Forest Supervisor, Earl Stewart.

Nature of Decision To Be Made

Given the purpose and need of the project, the Forest Supervisor will review alternatives and consider the environmental consequences of those alternatives in making his decisions, including: (1) Whether to select the proposed action or another alternative; (2) the effects of road construction, reconstruction, and closure; (3) mitigation measures and monitoring; and (4) whether there may be a significant restriction to subsistence resources.

Preliminary Issues

Preliminary concerns identified by the interdisciplinary team include: (1) Designing an economical timber sale(s) that contributes to meeting market demand; (2) effects of timber harvest and road construction on wildlife, including habitat, travel corridors, and subsistence use of deer; and (3) effects of timber harvest and road construction on watershed condition.

Permits or Licenses Required

All necessary permits will be obtained prior to project implementation.

Scoping Process

This notice of intent initiates the scoping process, which guides the development of the EIS. The Forest Service is soliciting internal and external input on the issues, impacts, and alternatives that will be addressed in the EIS. Scoping packages will be distributed to interested parties who have subscribed through an electronic mailing list to receive project information. Individuals and organizations wishing to subscribe may do so at: https://public.govdelivery.com/accounts/USDAFS/subscriber/new?preferences=true.

Additionally, there will be opportunities for involvement including open houses and subsistence hearings held in Prince of Wales Island communities. Project information, meeting announcements, notices, and documents will be provided on the project web page at: http://www.fs.fed.us/nepa/nepa_project_exp.php?project=58626.

Forest Service regulations at 36 CFR part 218, subparts A and B (78 FR18481-18504) regarding the project-level, predecisional administrative review process applies to projects and activities implementing land management plans. The Twin Mountain II Timber Sale is an activity implementing the Forest Plan and is subject to 36 CFR 218.

Only individuals or entities who submit timely and specific written comments concerning this project during this or other designated public comment periods established by the Responsible Official will be eligible to file an objection. It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. While comments submitted anonymously will be accepted and considered, they will not provide the submitters standing to participate in the predecisional review process.

Allen Rowley,
Associate Deputy Chief, National Forest System.

[FR Doc. 2020-20190 Filed 9-11-20; 8:45 am]

BILLING CODE 3411-15-P